DEPARTMENT OF LABOR

Employment and Training Administration

[TA-W-52,903]

Straits Steel & Wire, Rowe Engineering, Ludington, Michigan; Amended Certification Regarding Eligibility To Apply for Worker Adjustment Assistance

In accordance with section 223 of the Trade Act of 1974 (19 U.S.C. 2273) the Department of Labor issued a Certification of Eligibility to Apply for Worker Adjustment Assistance on October 14, 2003, applicable to workers of Straits Steel & Wire, Ludington, Michigan. The notice was published in the Federal Register on November 6, 2003 (68 FR 62834).

At the request of a company official, the Department reviewed the certification for workers of the subject firm. The workers are engaged in the production of display shelving and baskets for refrigerators.

New information shows that Straits Steel & Wire and Rowe Engineering are subsidiaries of SSW Holding. Information also shows that workers separated from employment at the subject firm had their wages reported under a separate unemployment insurance (UI) tax account for Rowe Engineering.

Accordingly, the Department is amending the certification to properly reflect this matter.

The intent of the Department's certification is to include all workers of Straits Steel & Wire, Ludington, Michigan, who were adversely affected by increased imports.

The amended notice applicable to TA-W-52,903 is hereby issued as follows:

All workers of Straits Steel & Wire, Rowe Engineering, Ludington, Michigan, engaged in the production of display shelving and baskets, who became totally or partially separated from employment on or after September 8, 2002, through October 14, 2005, are eligible to apply for adjustment assistance under section 223 of the Trade Act of 1974.

Signed at Washington, DC, this 14th day of January, 2004.
Elliott S. Kushner,
Certifying Officer, Division of Trade Adjustment Assistance.

[FR Doc. E4-137 Filed 1-27-04; 8:45 am]

BILLING CODE 4510-13-P